DEPARTMENT OF ENERGY

Federal Energy Regulatory Commission

[Docket No. RP02-341-000]

Western Gas Interstate Company; Notice of Compliance Filing

May 31, 2002.

Take notice that on May 21, 2002, Western Gas Interstate Company (WGI), tendered for filing as part of its FERC Gas Tariff, Fourth Revised Volume No. 1, First Revised Sheet No. 146, Superseding Original Sheet No. 146, in compliance with Order No. 587-N. The revised tariff sheet would permit releasing shippers, as a condition of a capacity release, to recall released capacity and to renominate such recalled capacity at each nomination opportunity. The tariff sheet is proposed to be effective July 1, 2002.

WGI states that copies of this filing were served on its customers and to interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-14187 Filed 6-5-02; 8:45 am]

BILLING CODE 6717-01-P